OFFICE OF THE UNITED STATES TRADE REPRESENTATIVE

Procurement Thresholds for Implementation of Trade Agreements Act

Editorial Note: Due to numerous errors, this document is being reprinted in its entirety. It was orginally printed in the Federal Register on Thursday, February 21, 2002 at 67 FR 8057.

AGENCY: Office of the United States Trade Representative.

ACTION: Notice of Procurement Thresholds Under the WTO Government Procurement Agreement and Chapter 10 of the North American Free Trade Agreement.

SUMMARY: Executive Order 12260 requires the U.S. Trade Representative to set the U.S. dollar thresholds for application of Title III of the Trade Agreements Act of 1979 (19 U.S.C. 2511 et seq.), which implements U.S. obligations under the World Trade Organization Government Procurement Agreement (GPA) and Chapter 10 of the North American Free Trade Agreement (NAFTA). These obligations apply to covered procurements valued at or above the specified U.S. dollar thresholds. The U.S. Trade Representative has determined that, for the calendar years 2002-2003, the thresholds are as follows:

I. WTO Government Procurement Agreement

A. Central Government Entities listed in U.S. Annex 1

(1) Procurement of goods and services—$169,000.

(2) Procurement of construction services—$6,481,000.

B. Sub-Central Government Entities listed in U.S. Annex 2

(1) Procurement of goods and services—$460,000.

(2) Procurement of construction services—$6,481,000.

C. Other Entities listed in U.S. Annex 3

(1) Procurement of goods and services—$518,000.

(2) Procurement of construction services—$6,481,000.

II. Chapter 10 of the NAFTA

A. Federal Government Entities listed in the U.S. schedule to Annex 1001.1a-1

(1) Procurement of goods and services—$56,190.

(2) Procurement of construction services—$7,304,733.

B. Government Enterprises listed in the U.S. schedule to Annex 1001.1a-2

(1) Procurement of goods and services—$280,951.

(2) Procurement of construction services—$8,990,862.

FOR FURTHER INFORMATION CONTACT: Questions relating to the implementation of NAFTA Chapter 10 may be directed to Karissa Kovner, USTR Director for International Procurement Negotiations (202/395-3063), Office of the U.S. Trade Representative, 600 Seventeenth Street, NW, Washington, DC 20508.

Carmen Suro-Bredie,
Chairman, Trade Policy Staff Committee.

[FR Doc. 02-4120 Filed 2-20-02; 8:45 am]

BILLING CODE 3190-01-P

Editorial Note: Due to numerous errors, this document is being reprinted in its entirety. It was orginally printed in the Federal Register on Thursday, February 21, 2002 at 67 FR 8057.

[FR Doc. R2-4120 Filed 3-26-02; 8:45 am]

BILLING CODE 1505-01-D